DEPARTMENT OF JUSTICE

Antitrust Division

Notice Pursuant to the National Cooperative Research and Production Act of 1993—National Spectrum Consortium

Notice is hereby given that, on January 15, 2021, pursuant to Section 6(a) of the National Cooperative Research and Production Act of 1993, 15 U.S.C. 4301 et seq. (“the Act”), National Spectrum Consortium (“NSC”) has filed written notifications simultaneously with the Attorney General and the Federal Trade Commission disclosing changes in its membership. The notifications were filed for the purpose of extending the Act's provisions limiting the recovery of antitrust plaintiffs to actual damages under specified circumstances. Specifically, PAE Applied Technologies, Fort Worth, TX; Mantech Advanced Systems International Incorporated, Herndon, VA; Intelsat General Communications LLC, McLean, VA; Micron Technology Inc., Seattle, WA; CellAntenna Corporation, Coral Springs, FL; NxGen Partners Manager, LLC, Dallas, TX; Granite Telecommunications, McLean, VA; 1901 Group, LLC, Reston, VA; Anritsu Company, Morgan Hills, CA; Capraro Technologies, Inc., Utica, NY; Cirrus360 LLC, Richardson, TX; Rafael System Global Sustainment, LLC, Bethesda, MD; Gigamon Inc., Santa Clara, CA; MedCognition, Inc., San Antonio, TX; Kutta Technologies, Inc., Phoenix, AZ have been added as parties to this venture.

Also, Ball Aerospace & Technologies Corp, Fairborn, OH; Beatty and Company Computing Inc., Southlake, TX; Sprint Solutions, Inc., Overland Park, KS; Indiana Tool & Mfg. Co., Inc. DBA ITAMCO, Plymouth, IN; Bear Systems, Boulder, CO; Vectrona, LLC, Virginia Beach, VA; Pareto Frontier, LLC, Westford, MA; IJK Controls LLC, Dallas, TX; IMSAR LLC, Springville, UT; Phase Sensitive Innovations, Inc., Newark, DE; Technology Unlimited Group, San Diego, CA; University of Arizona—Electrical and Computer Engineering, Tucson, AZ have withdrawn as parties from this venture.

No other changes have been made in either the membership or planned activity of the group research project. Membership in this group research project remains open, and NSC intends to file additional written notifications disclosing all changes in membership.

On September 24, 2014, NSC filed its original notification pursuant to Section 6(a) of the Act. The Department of Justice published a notice in the Federal Register pursuant to Section 6(b) of the Act on November 4, 2014 (79 FR 65424).

The last notification was filed with the Department on November 10, 2020. A notice was published in the Federal Register pursuant to Section 6(b) of the Act on November 23, 2020 (85 FR 74762).

Suzanne Morris,
Chief, Premerger and Division Statistics, Antitrust Division.

[FR Doc. 2021-02918 Filed 2-11-21; 8:45 am]

BILLING CODE 4410-11-P